DEPARTMENT OF TRANSPORTATION

National Highway Traffic Safety Administration

49 CFR Part 571

[Docket No. 02-12480]

RIN 2127-AI86

Federal Motor Vehicle Safety Standards; Head Impact Protection

AGENCY: National Highway Traffic Safety Administration (NHTSA), Department of Transportation (DOT).

ACTION: Interim final rule, request for comments.

SUMMARY: This interim final rule amends the schedule for compliance by manufacturers of vehicles built in two or more stages with the upper interior head protection requirements of Federal Motor Vehicle Safety Standard No. 201, Occupant Protection in Interior impact.

This interim final rule delays the date on which manufacturers of vehicles built in two or more stages must produce vehicles meeting the upper interior head protection performance requirements of Standard No. 201 from September 1, 2002, until September 1, 2003. The agency is issuing this interim final rule to provide the agency time to complete a rulemaking action initiated by petitions for rulemaking requesting that NHTSA consider modifying the requirements of Standard No. 201 as they apply to vehicles manufactured in two or more stages. As that rulemaking action may result in modification of Standard No. 201 as it applies to these multi-stage vehicles, the agency has decided to extend the compliance date until the final action is taken on the petitions. It expects to take final action before September 1, 2003.

DATES: This interim final rule becomes effective on July 18, 2002. Comments on this interim rule are due no later than August 19, 2002.

ADDRESSES: You may submit your comments in writing or electronically. Written comments should refer to the docket number of this notice and be submitted (preferably in two copies) to: Docket Management, PL-401, Nassif Building, 400 Seventh Street, SW., Washington, DC 20590. (Docket hours are Monday-Friday from 10 a.m. to 5 p.m., excluding holidays.) Electronic comments can be submitted through the worldwide web at http://dms.dot.gov.

FOR FURTHER INFORMATION CONTACT: For non-legal issues, you may call Dr. William Fan, Office of Crashworthiness Standards, at (202) 366-4922, facsimile (202) 366-4329.

For legal issues, you may call Otto Matheke, Office of the Chief Counsel, at 202-366-5263.

SUPPLEMENTARY INFORMATION:

Table of Contents

I. Background

II. Petitions For Rulemaking

A. RVIA

B. NTEA

III. Standard 201 and Vehicles Built in Two or More Stages

IV. Interim Final Rule

V. Written Comments

VI. Regulatory Analyses and Notices

I. Background

NHTSA issued a final rule on August 18, 1995, amending Federal Motor Vehicle Safety Standard No. 201, Occupant Protection in Interior Impact, to require passenger cars, and trucks, buses and multipurpose passenger vehicles with a gross vehicle weight rating of 4,536 kilograms (10,000 pounds) or less, to provide head protection during a crash when an occupant's head strikes the upper interior, i.e., the roof pillars, side rails, headers, and the roof itself of the vehicle. (60 FR 430341) The final rule responded to the NHTSA Authorization Act of 1991 (sections 2500-2509 of the Intermodal Surface Transportation Efficiency Act (“ISTEA”), Pub. L. 102-240). ISTEA required NHTSA to address several vehicle safety matters through rulemaking. One of these matters, set forth in section 2503(5), is improved head impact protection from interior components (i.e., roof rails, pillars, and front headers) of passenger cars.

The final rule, which mandated compliance with the new requirements beginning on September 1, 1998, significantly expanded the scope of Standard 201. Previously, the standard applied to the instrument panel, seat backs, interior compartment doors, arm rests and sun visors. To determine compliance with the upper interior impact requirements, the final rule added procedures for a new in-vehicle component test in which a Free Motion Headform (FMH) is fired at certain target locations on the upper interior of a vehicle at an impact speed of up to and including 24 km/h (15 mph). Data collected from a FMH impact are translated into a value known as a Head Injury Criterion (HIC) score. The resultant HIC must not exceed 1000.

The standard, as further amended on April 8, 1997 (62 FR 16718), provides manufacturers with four alternate phase-in schedules for complying with the upper interior impact requirements. First, as set forth in S6.1.1, manufacturers may comply by having the following percentages of their production meet the upper interior impact requirements: 10 percent of production on or after September 1, 1998 and before September 1, 1999; 25 percent of production on or after September 1, 1999 and before September 1, 2000, 40 percent of production on or after September 1, 2000 and before September 1, 2001, 70 percent of production on or after September 1, 2001 and before September 1, 2002, and 100 percent of production after September 1, 2002.

Second, an alternative schedule set forth in S6.1.2 provides that manufacturers may comply by meeting the following phase-in schedule: 7 percent of the vehicles manufactured on or after September 1, 1998 and before September 1, 1999; 31 percent of vehicles manufactured on or after September 1, 1999 and before September 1, 2000; 40 percent of vehicles manufactured on or after September 1, 2000 and before September 1, 2001; 70 percent of vehicles manufactured on or after September 1, 2001 and before September 1, 2002; and 100 percent of all vehicles manufactured after September 1, 2002.

Third, under the phase-in schedule set forth in S6.1.3, manufacturers need not produce any complying vehicles before September 1, 1999. However, all vehicles produced on or after that date must comply. Fourth, S6.1.4 of the April 8, 1997 final rule provided that multi-stage vehicles produced after September 1, 2002, were required to comply.

II. Petitions for Rulemaking

The Recreation Vehicle Industry Association (RVIA) filed a petition for rulemaking on October 4, 2001 requesting that the agency modify Standard No. 201 to exclude conversion vans and motor homes with gross vehicle weight rating of 4,536 kilograms (10,000 pounds) or less, from the application of the upper interior head protection requirements of the Standard. The National Truck Equipment Association (NTEA) filed a petition for rulemaking on November 27, 2001 seeking similar relief. Both petitions requested that NHTSA extend the existing phase-in for manufacturers of multi-stage vehicles (i.e., the fourth one described above) from September 1, 2002 to March 1, 2004. By letters dated March 28 and April 5, 2002, NHTSA indicated it was granting the petitions. The agency is currently embarking on a rulemaking proceeding to address the issues raised in the petitions.

A. RVIA

The Recreation Vehicle Industry Association (RVIA) is a trade association representing manufacturers of conversion vehicles (CVs) and motor homes. RVIA states that its member companies, which produced approximately 60,000 vehicles with a GVWR under 4,536 kilograms (10,000 pounds) in 2001, produce over 90 percent of all CVs and 99 percent of all motor homes sold in the United States. RVIA submitted a petition for rulemaking on October 4, 2001 requesting the NHTSA consider rulemaking to amend Standard No. 201 so that CVs and motor homes would not be required to meet the upper interior head protection requirements of the Standard. The petition further requested that the compliance date for multi-stage vehicles be modified from September 1, 2002 to March 1, 2004.

RVIA's petition contends that the characteristics of the manufacturers producing CVs, the unique nature of CVs, and the methods used to produce these vehicles indicate that NHTSA should not require CVs to meet the upper interior head protection requirements of Standard No. 201. The RVIA petition states that producers of CVs and motor homes are almost exclusively small businesses with fewer than 500 employees. These small businesses produce CVs and motor homes by purchasing incomplete vehicles from major manufacturers and installing unique interiors, seats and accessories. Many of these manufacturers modify the vehicle structure by adding windows and raising or replacing the original roof. According to RVIA, each of these manufacturers offers a wide variety of interior configurations and designs in order to attract customers who might otherwise purchase a conventional vehicle or a CV or motor home built by a competitor.

RVIA's petition emphasizes that the CV and motor home manufacturers serve a niche market where buyers are seeking unique designs and capabilities. This, according to RVIA, has several effects that make compliance with the upper interior head protection requirements difficult for its members.

This demand for unique vehicles, in RVIA's view, precludes the use of standardized components across the industry or even within the product lines of a single manufacturer. The limited sales volume of CVs and small motor homes reduces the opportunity to spread development and testing costs over a large number of vehicles. The result, according to RVIA, is that compliance with the upper interior head impact protection requirements would force individual companies to spend excessive amounts on development and testing of wide variety of components while being forced to add these development and testing costs to the price of a very small number of vehicles. RVIA contends that the resulting increases in costs and prices for individual vehicles would be so great that consumers would no longer purchase CVs and motor homes. Finally, RVIA's petition indicates that the major manufacturers providing incomplete vehicles for conversion into CVs and motor homes had not, at the time of its petition, begun to provide any vehicles that complied with Standard 201's upper interior requirements for those portions of the vehicles completed by the incomplete vehicle manufacturer. Moreover, these manufacturers will not, according to RVIA, be doing so until September 1, 2002. RVIA says that this timing would make it extremely difficult for RVIA members to use these vehicles as base vehicles for their own production until well after the September 1, 2002 compliance date.

RVIA's petition also outlines efforts made by the CV and motor home industry to comply with the upper interior head protection requirements by September 1, 2002. The petition indicates that RVIA members attempted to devise common components that could be used to meet the Standard. However, according to RVIA, the common component concept was unsatisfactory in terms of performance and, due to the need for individual manufacturers to use unique components, ill-suited to the industry. Similarly, because of the variations between vehicles built by different manufacturers, cooperative-testing arrangements that might be used for compliance with other standards could not be used to determine compliance with the upper interior head protection requirements of Standard No. 201. Therefore, RVIA contends that the only means for its member companies to meet the upper interior head protection requirements is for each manufacturer to develop individual components for each of its model lines.

Finally, RVIA's petition contends that applying the upper interior head protection requirements to CVs and motor homes would not be economically practicable. RVIA estimated that compliance costs for CVs would be at least $2,401 per vehicle. For a motor home, RVIA estimated that the per vehicle compliance costs would be not less than $4,748. In RVIA's view, these costs are excessive, particularly because it believes that the safety benefits gained from compliance would be minimal. According to RVIA, the fatality rate for van-based motor homes is 0.00039 per 100,000 annual vehicle miles. Based on this rate, RVIA estimates that the safety benefit of having van-based motor homes comply with the upper interior head protection requirements would be negligible—less than one fatality per year. Although RVIA did not provide a similar analysis for CVs, it argued that the safety benefits in the case of CVs would also be quite low.

B. NTEA

The NTEA describes itself as the nation's only trade association representing distributors and manufacturers of multi-stage produced work-related trucks, truck bodies and equipment. NTEA describes its average member company as a small business employing less than 300 people that either manufactures specialized truck bodies and installs them on incomplete vehicles or installs truck bodies built by others onto incomplete vehicles. According to the NTEA petition, its member companies produce fire trucks, ambulances, utility company vehicles, aerial bucket trucks, delivery trucks and a variety of other specialized vehicles for commercial or vocational use. As is the case with manufacturers of CVs and motor homes, these manufacturers use incomplete vehicles provided by major manufacturers and either build or assemble a completed vehicle for a specified use using the chassis provided by another company.

NTEA's petition indicates that its member companies produce approximately 377,000 vehicles annually that are subject to the upper interior head protection requirements of Standard No. 201. The petition further states that these vehicles are produced in at least 1,200 identified configurations. NTEA contends that the variety of these different configurations precludes certification to the upper interior head protection requirements because it is impossible to identify a representative “generic” vehicle interior configuration for this great variety of vehicles. Further, NTEA believes that a “generic” configuration is ill-suited to Standard No. 201 as minor differences in a vehicle interior can affect compliance with the upper interior requirements. Other methods that NTEA members use to meet their certification responsibilities, such as relying on the incomplete vehicle manufacturer's certification, are of little value in regard to the upper interior as the areas originally certified by the incomplete vehicle manufacturer are either insufficient or would be negated by necessary modifications. Therefore, according to NTEA, its member companies bear a heavy burden—each final stage manufacturer must devote significant resources in an effort to develop compliant vehicles.

In NTEA's view, the burden of complying with the upper interior head impact requirements is simply too great. The organization states that its members—as small businesses—do not have the required technical expertise and resources. Moreover, the NTEA petition indicates that compliance testing for a typical vehicle produced by one of its member companies would cost between $14,000 and $17,000. As these costs are simply compliance test costs, and not development or prototype testing, NTEA believes that the actual costs of compliance would be much greater. Since its members do not produce large numbers of identical vehicles, NTEA contends that it would not be possible for its members to absorb the costs of countermeasure development and compliance testing without raising the price of each finished vehicle to a point higher than the market will bear.

NTEA's petition indicates that there are a number of practical obstacles to compliance with the upper interior head protection requirements of Standard No. 201. As a large number of the vehicles produced by NTEA members are work trucks, work vans, emergency vehicles, or police vehicles, many of them are produced with bulkheads or dividers needed to ensure that objects or people that must remain in the rear of the vehicle actually do so. Installation of these bulkheads, according to NTEA, is likely to require relocation of target areas originally certified by the incomplete vehicle manufacturer, adding to the burden of the NTEA member. Further, NTEA submits that, as a practical matter, it would be physically impossible for all of its member companies to even have the opportunity to perform compliance testing. According to the NTEA petition, only two independent test labs are available in the United States to perform the required compliance tests. At their current capacity, NTEA estimates that these facilities could not complete compliance testing for the 2003 model year vehicles produced by NTEA members in less than 64 years.

III. Standard 201 and Vehicles Built in Two or More Stages

The member companies of RVIA and NTEA are manufacturers who produce vehicles in two or more stages. These multi-stage manufacturers purchase incomplete vehicles from major manufacturers to serve as the basis for specialty vehicles to meet certain uses and markets. For example, an NTEA member company may purchase incomplete pickup trucks from a major manufacturer and add a specialty body in place of the standard bed. Rather than purchase a complete truck and discard the original bed, the manufacturer of the specialty vehicle, i.e., the final stage manufacturer, purchases trucks that are complete except for the bed. In more complicated conversions, the final stage manufacturer may purchase a “cutaway,” a van chassis where the body terminates just behind the B-pillar, and add a specialized cargo body or a body designed to transport occupants such as an ambulance. The processes employed by RVIA members in producing motor homes and conversion vans are substantially similar. Incomplete vehicles are purchased from larger companies and the original vehicle is completed and/or modified for a specialty use or market.

In many cases, the final stage manufacturer is able to “pass-through,” i.e., rely, on the original manufacturer's certification that the incomplete vehicle meets certain standards. For example, a final stage manufacturer purchasing a cutaway or pickup truck with a complete cab will ordinarily rely on the original manufacturer's certification that the cab meets the requirements of Standard No. 101, Controls and Displays. The degree to which a final stage manufacturer may “pass through” the original manufacturer's certification is dependent on a number of factors, including whether the original manufacturer certified the original vehicle to a particular standard, the degree to which the final stage manufacturer's completion of the vehicle affects that original certification, and the complexity of the particular standard involved.

In the case of the upper interior head protection requirements of Standard No. 201, the agency's August 18, 1995 final rule establishing those requirements contained a number of provisions intended to address the particular circumstances of multi-stage manufacturers and their products. As indicated above, S6.1 of Standard No. 201 contains four different schedules under which compliance with the upper interior head protection requirements is “phased-in.” NHTSA adopted these phase-in schedules to afford manufacturers sufficient leadtime to bring their vehicles into compliance with the new upper interior head protection requirements. In the case of vehicles manufactured in two or more stages, S6.1.4 did not require multi-stage vehicles to comply until the final year of the phase-in. By doing so, the agency intended to prevent the possibility that final stage manufacturers would be dependent on a source of incomplete vehicles that had not yet been brought into compliance with the upper interior impact requirements (60 FR 43049).

In addition to creating a separate phase-in schedule for multi-stage manufacturers, the August 1995 final rule also contained an exclusion for all targets in walk-in vans and restricted application of the upper interior head protection requirements in ambulances and motor homes to those target areas forward of a transverse vertical plane located 600 millimeters (24 inches) rearward of the seating reference point of the driver's seating position. Acting in response to petitions for reconsideration, NHTSA published a final rule in the Federal Register on April 8, 1997 (62 FR 16718) that further restricted application of the upper interior head protection requirements to vehicles likely to be built in two or more stages. In response to petitions for reconsideration questioning the ability of school bus manufacturers to bring smaller school buses into compliance with the upper interior head protection requirements, the agency excluded small buses with a GVWR above 3,860 kilograms (8,500 pounds) from the upper interior requirements. This decision was based on the fact that fatality rates for these vehicles were extremely low while the compliance costs for meeting the upper interior requirements were relatively high (62 FR 16720).

NHTSA has, however, previously considered the question of exempting vehicles built in two or more stages from the upper interior head protection requirements of Standard No. 201. Comments submitted prior to issuance of the August 1995 final rule by RVIA and NTEA raised many of the issues now outlined in their recent petitions for rulemaking. At that time, the agency determined that there was no compelling reason not to require vehicles manufactured by NTEA and RVIA members to meet the new head protection requirements. This determination was based on the belief that these manufacturers could rely on the certification of the incomplete vehicle manufacturers for some of the target areas involved. For the remainder of the target areas involved, NHTSA believed that multi-stage manufacturers could develop cooperative tests to reduce test burdens for individual manufacturers and that these individual manufacturers could reduce testing costs by testing individual components prior to their inclusion in a completed vehicle. Therefore, the agency's Final Economic Assessment (FEA) for the August 1995 final rule concluded that the compliance test costs would be between $2000 and $4000 per model. Because final stage manufacturers could rely on the incomplete vehicle manufacturer's certification and had means available to design and test countermeasures for the remaining target areas, the August 1995 final rule did not establish any special exemptions for multi-stage manufacturers other than to exclude walk-in vans and the rear areas of motor homes and ambulances.

IV. Interim Final Rule

The amendments extending the phase-in for vehicles built in two or more stages are being published as an interim final rule. Accordingly, the revised compliance date is fully in effect 30 days after the date of this document's publication. No further regulatory action by the agency is necessary to make these regulations effective.

These amendments have been published as an interim final rule as insufficient time is available to provide for prior notice and opportunity for comment. Under the phase-in schedule in effect prior to the issuance of this rule, manufacturers of vehicles built in two or more stages would have to comply with the upper interior head protection requirements on or before September 1, 2002. If the agency were to engage in notice and comment rulemaking, the final rule would likely be issued within weeks of that date. Both the RVIA and NTEA petitions indicate that manufacturers of multi-stage vehicles have, in their efforts to bring vehicles into compliance with these requirements, discovered that substantial obstacles prevent their members from doing so. Moreover, RVIA and NTEA allege that prior agency estimates of development and compliance costs were dramatically understated while the availability of “pass through” certification was overstated. Because the agency has granted the petitions submitted by NTEA and RVIA and will be studying the issues raised in those petitions, the agency believes that the best course is to postpone the compliance date until the issues raised by the petitions are resolved. Accordingly, this interim final rule delays the date on which vehicles manufactured in two or more stages must comply with the upper interior head protection requirements to September 1, 2003.

NHTSA is aware that delaying the compliance date could arguably result in a decrease in safety if multi-stage manufacturers would otherwise have the capability to meet the upper interior head protection requirements. Preliminary estimates indicate that the safety benefit of requiring one year's production of vehicles manufactured in two or more stages to meet the upper interior head protection requirements is approximately 18-24 equivalent lives saved each year for the front seats and one equivalent life saved each year for the rear seats. If multi-stage vehicle manufacturers were able to produce vehicles meeting the upper interior head protection requirements, these benefits will be lost during the period of the extension. However, it also appears that NHTSA may have underestimated the difficulties faced by final stage manufacturers in meeting upper interior head protection requirements. If, as alleged by NTEA and RVIA, the compliance costs and test burdens imposed by the upper interior head protection requirements are so great that final stage manufacturers cannot bear them and remain in operation, continued maintenance of the September 1, 2002 compliance date would not produce any safety benefit and would have serious and undesirable economic effects.

The RVIA and NTEA petitions raise a number of points regarding NHTSA's earlier estimates of the costs that the upper interior head protection requirements would impose on multi-stage manufacturers. NHTSA believes that some of these arguments could have merit. The agency's belief that cooperative testing could lower the compliance costs of the upper interior head protection requirements of Standard No. 201 may have discounted the degree to which competition between final stage manufacturers of conversion vans and motorhomes prevented sharing of information regarding vehicle interiors. Insofar as conversion vans are concerned, each manufacturer strives to provide interior designs and features that differentiate their products from those of their competitors. As the uniqueness of the interior and the features incorporated into that interior are primary concerns of conversion van buyers, competitors are not likely to share their designs or the materials used in those designs with their competitors.

NHTSA also believed that final stage manufacturers could control compliance costs by testing components individually rather than completing a full prototype vehicle and then performing compliance tests. Unfortunately, experience in testing to the upper interior head protection requirements has revealed that such component testing is not entirely practical. As the upper interior head protection requirements specify that impacts be made into specific target areas of a vehicle, the target areas must be located. While incomplete vehicle manufacturers may precisely locate these target areas through computer-aided design before a vehicle is complete, final stage manufacturers must locate the target areas on the vehicle provided to them. Due to variations in target location, component testing may not be an adequate predictor of compliance. For similar reasons, final stage manufacturer modifications, such as raising or replacing the original roof, will, in most cases, result in relocation of specified target areas. Once relocated, the new target area must meet the requirements of the Standard. Given the degree to which final stage manufacturers modify their products in order to meet consumer demand or other requirements, these manufacturers may not be able to rely on the incomplete vehicle manufacturer's certification for any of the designated target areas inside the vehicle. Even in those instances in which an area of the vehicle is not modified by an intermediate or final stage manufacturer, incomplete vehicle manufacturer certifications appear to be encompassing smaller areas of the upper interior of the vehicles than was anticipated. Thus the unique characteristics of the upper interior head protection requirements of Standard No. 201, where both compliance and the test burden of ensuring compliance may be markedly changed by any modifications to the shape of the vehicle or its interior, may preclude final stage manufacturers from relying on a pass-through certification from the incomplete vehicle manufacturer.

The Regulatory Flexibility Act of 1980 requires agencies to evaluate the potential impacts of their proposed and final rules. When NHTSA issued the final rule establishing the upper interior head impact protection requirements of Standard No. 201 in August 1995, the agency determined that the new requirements would impose a burden on small manufacturers, but that this burden would not result in a significant economic impact.

The petitions filed by RVIA and NTEA dispute this finding and submit information gained from efforts to meet the upper interior requirements that suggests that NHTSA's prior estimates may have been incorrect. As NHTSA has granted the NTEA and RVIA petitions, the agency is now engaged in a rulemaking action. The agency's consideration of the issues raised by NTEA and RVIA cannot be concluded in sufficient time to maintain the original September 1, 2002 compliance date.

NHTSA has not yet resolved these issues, so this interim final rule extends the compliance date to September 1, 2003 to afford the agency time to take further action. Although RVIA and NTEA requested that the agency extend the compliance date to March 1, 2004, NHTSA does not believe that such an extension is either necessary or desirable. Future rulemaking can, if needed, further modify the deadline established by this interim final rule.

As indicated above, the agency believes that there is good cause to find that providing notice and comment in connection with this rulemaking action is impracticable, unnecessary, and contrary to the public interest.

The agency requests written comments on extending the phase-in for vehicles manufactured for two or more stages. All comments submitted in response to this document will be considered by the agency. Following the close of the comment period, the agency will publish a document in the Federal Register responding to the comments and, if appropriate, will make further amendments to the extension of the phase-in requirements amended by this interim final rule.

V. Written Comments

Interested persons are invited to comment on this interim final rule. It is requested, but not required, that two copies be submitted to the Office of Docket Management, Room PL-401, Nassif Building, 400 Seventh Street, SW., Washington, DC 20590.

All comments must be limited to 15 pages in length. Necessary attachments may be appended to those submissions without regard to the 15-page limit (49 CFR 553.21). This limitation is intended to encourage commenters to detail their primary arguments in a concise fashion.

Written comments to the public docket must be received by July 18, 2002.

All comments received before the close of business on the comment closing date will be considered and will be available for examination in the docket at the above address before and after that date. To the extent possible, comments filed after the closing date will also be considered. However, the rulemaking action may proceed at any time after that date.

NHTSA will continue to file relevant material in the docket as it becomes available after the closing date, and it is recommended that interested persons continue to examine the docket for new material.

Those persons who wish to be notified upon receipt of their comments in the docket should enclose, in the envelope with their comments, a self-addressed stamped postcard. Upon receiving the comments, the docket supervisor will return the postcard by mail.

Copies of all comments will be placed in the Docket for this interim final rule in the Office of Docket Management, Room PL-401, Nassif Building, 400 Seventh Street, SW., Washington, DC 20590.

VI. Regulatory Analyses and Notices

A. Economic Impacts

Executive Order 12866, “Regulatory Planning and Review” (58 FR 51735, October 4, 1993), provides for making determinations whether a regulatory action is “significant” and therefore subject to Office of Management and Budget (OMB) review and to the requirements of the Executive Order. The Order defines a “significant regulatory action” as one that is likely to result in a rule that may:

(1) Have an annual effect on the economy of $100 million or more or adversely affect in a material way the economy, a sector of the economy, productivity, competition, jobs, the environment, public health or safety, or State, local, or Tribal governments or communities;

(2) Create a serious inconsistency or otherwise interfere with an action taken or planned by another agency;

(3) Materially alter the budgetary impact of entitlements, grants, user fees, or loan programs or the rights and obligations of recipients thereof; or

(4) Raise novel legal or policy issues arising out of legal mandates, the President's priorities, or the principles set forth in the Executive Order.

This rulemaking document was not reviewed under Executive Order 12866. It is not significant within the meaning of the DOT Regulatory Policies and Procedures. It does not impose any burden on manufacturers and extends the compliance date for existing regulatory requirements for a period of one year. The agency believes that this impact does not warrant the preparation of a full regulatory evaluation.

B. Environmental Impacts

We have not conducted an evaluation of the impacts of this final rule under the National Environmental Policy Act. This rulemaking action extends the date by which manufacturers of vehicles built in two or more stages must comply with the upper interior head impact protection requirements of Standard No. 201. It does not impose any change that would have any environmental impacts. Accordingly, no environmental assessment is required.

C. Energy Impacts

This interim final rule, which extends the date by which manufacturers of vehicles built in two or more stages must comply with the upper interior head protection requirements of Standard No. 201, does not have “a significant adverse effect on the supply, distribution, or use of energy,” as defined by Executive Order 13211, Actions Concerning Regulations That Significantly Affect Energy Supply, Distribution, or Use. At this point, therefore, this action is not a “significant energy action” under Executive Order 13211 and no “Statement of Energy Effects” is required.

D. Impacts on Small Entities

Pursuant to the Regulatory Flexibility Act, the agency has considered the impact this rulemaking will have on small entities. As this action will provide a short term benefit for small entities by delaying the compliance date, it will have a significant economic impact on a substantial number of small entities within the context of the Regulatory Flexibility Act.

The Regulatory Flexibility Act of 1980 (Public Law 96-354) requires each agency to evaluate the potential effects of a rule on small businesses. The Small Business Administration (SBA) has set size standards for determining if a business within a specific industrial classification is a small business. The Standard Industrial Classification code used by the SBA for Motor Vehicles and Passenger Car Bodies (3711) defines a small manufacturer as one having 1,000 employees or fewer.

Most of the intermediate and final stage manufacturers of vehicles built in two or more stages have 1,000 or fewer employees. This interim final rule extends the date by which these manufacturers must produce vehicles that meet the upper interior head protection requirements of Standard No. 201. Although this action does not modify those requirements, it provides these small businesses additional time to meet them. In the agency's view, issuance of this interim final rule is necessary to prevent adverse effects that may have been underestimated in a prior rulemaking establishing the requirements at issue. For this reason, this interim final rule regarding the compliance date will have a significant economic impact on a substantial number of small entities. The agency has performed a Regulatory Flexibility Analysis and placed a copy in the docket.

E. Federalism

E.O. 13132 requires NHTSA to develop an accountable process to ensure “meaningful and timely input by State and local officials in the development of regulatory policies that have federalism implications.” E.O. 13132 defines the term “Policies that have federalism implications” to include regulations that have “substantial direct effects on the States, on the relationship between the national government and the States, or on the distribution of power and responsibilities among the various levels of government.” Under E.O. 13132, NHTSA may not issue a regulation that has federalism implication, that imposes substantial direct compliance costs, and that is not required by statute, unless the Federal government provides the funds necessary to pay the direct compliance costs incurred by State and local governments, or NHTSA consults with State and local officials early in the process of developing the proposed regulation.

This interim final rule will not have substantial direct effects on the States, on the relationship between the national government and the States, or on the distribution of power and responsibilities among the various levels of government as specified in E.O. 13132. Thus, the requirements of section 6 of the Executive Order do not apply to this rule.

F. The Unfunded Mandates Reform Act

The Unfunded Mandates Reform Act of 1995 (Public Law 104-4) requires agencies to prepare a written assessment of the costs, benefits and other effects of proposed or final rules that include a Federal mandate likely to result in the expenditure by State, local or tribal governments, in the aggregate, or by the private sector, of more than $100 million annually. This action, which extends the compliance date by which manufacturers of vehicles built in two or more stages must meet the upper interior head impact protection requirements of Standard No. 201, will not result in additional expenditures by state, local or tribal governments or by any members of the private sector. Therefore, the agency has not prepared an economic assessment pursuant to the Unfunded Mandates Reform Act.

G. Paperwork Reduction Act

There are no information collection requirements in this rule.

H. Regulation Identifier Number (RIN)

The Department of Transportation assigns a regulation identifier number (RIN) to each regulatory action listed in the Unified Agenda of Federal Regulations. The Regulatory Information Service Center publishes the Unified Agenda in April and October of each year. You may use the RIN contained in the heading at the beginning of this document to find this action in the Unified Agenda.

I. Plain Language

Executive Order 12866 requires each agency to write all rules in plain language. Application of the principles of plain language includes consideration of the following questions:

—Have we organized the material to suit the public's needs?

—Are the requirements in the rule clearly stated?

—Does the rule contain technical language or jargon that is not clear?

—Would a different format (grouping and order of sections, use of headings, paragraphing) make the rule easier to understand?

—Would more (but shorter) sections be better?

—Could we improve clarity by adding tables, lists, or diagrams?

—What else could we do to make the rule easier to understand?

If you have any responses to these questions, please forward them to Otto Matheke, Office of Chief Counsel, National Highway Traffic Safety Administration, 400 Seventh Street, SW., Washington, DC 20590.

J. Executive Order 13045

Executive Order 13045 (62 FR 19885, April 23, 1997) applies to any rule that: (1) Is determined to be economically significant as defined under E.O. 12866, and (2) concerns an environmental, health or safety risk that NHTSA has reason to believe may have a disproportionate effect on children. If the regulatory action meets both criteria, we must evaluate the environmental health or safety effects of the planned rule on children, and explain why the planned regulation is preferable to other potentially effective and reasonably feasible alternatives considered by us.

This rulemaking does not have a disproportionate effect on children. The primary effect of this rulemaking is to extend the compliance date by which manufacturers of vehicles built in two or more stages must meet the upper interior head protection requirements of Standard No. 201. The interim final rule may have an impact on the safety of multi-stage vehicles. However, this impact is likely to be evenly distributed across the population of users of these vehicles, including users of work and transport trucks.

K. National Technology Transfer and Advancement Act

Section 12(d) of the National Technology Transfer and Advancement Act (NTTAA) requires NHTSA to evaluate and use existing voluntary consensus standards in its regulatory activities unless doing so would be inconsistent with applicable law (e.g., the statutory provisions regarding NHTSA's vehicle safety authority) or otherwise impractical. In meeting that requirement, we are required to consult with voluntary, private sector, consensus standards bodies. Examples of organizations generally regarded as voluntary consensus standards bodies include the American Society for Testing and Materials (ASTM), the Society of Automotive Engineers (SAE), and the American National Standards Institute (ANSI). If NHTSA does not use available and potentially applicable voluntary consensus standards, we are required by the Act to provide Congress, through OMB, an explanation of the reasons for not using such standards.

We are not aware of any available and potentially applicable voluntary consensus standards, i.e., ones regarding the performance of vehicle interior components in protecting against head impacts. Therefore, this rule is not based on any voluntary consensus standards.

List of Subjects in 49 CFR Part 571

Imports, Motor vehicle safety, Motor vehicles, Rubber and rubber products, Tires.

In consideration of the foregoing, 49 CFR part 571 is amended as follows:

PART 571.201—[AMENDED]

1. The authority citation for part 571 continues to read as follows:

Authority: 49 U.S.C. 322, 21411, 21415, 21417, and 21466; delegation of authority at 49 CFR 1.50.

2. Section 571.201 is amended by revising S6.1.4.1 and S6.1.4.2 as follows:

* * * * *

S6.1.4.1 Vehicles manufactured on or after September 1, 1998 and before September 1, 2003 are not required to comply with the requirements specified in S7.

S6.1.4.2 Vehicles manufactured on or after September 1, 2003 shall comply with the requirements specified in S7.

* * * * *

Issued on: June 13, 2002.
Jeffrey W. Runge,
Administrator.

[FR Doc. 02-15334 Filed 6-13-02; 4:36 pm]

BILLING CODE 4910-59-P